DEPARTMENT OF COMMERCE

International Trade Administration

Public Hearing on the Second Addendum to the Agreement Concerning Trade in Certain Steel Products From the Russian Federation

AGENCY: Import Administration, International Trade Administration, Department of Commerce.

SUMMARY: Pursuant to section 125(f) of the Trade Act of 1974, the Department of Commerce has scheduled a public hearing on potential changes to the import restrictions on pig iron, billets and semifinished steel products from the Russian Federation to the United States.

EFFECTIVE DATE: March 11, 2003.

FOR FURTHER INFORMATION CONTACT: Jean Kemp, (202) 482-4037; or Edward Yang, (202) 482-0406. Import Administration, International Trade Administration, U.S. Department of Commerce, 14th Street and Constitution Avenue, NW., Washington, DC 20230.

SUPPLEMENTARY INFORMATION: On June 1, 1990, pursuant to Title IV of the Trade Act of 1974 (the Trade Act), the Governments of the United States of America and the Union of Soviet Socialist Republics entered into the Agreement on Trade Relations Between the United States of America and the Union of Soviet Socialist Republics. On June 17, 1992, this agreement became effective between the United States of America and the Russian Federation (“the 1992 Agreement”). Article XI of the 1992 Agreement provides that the Parties will consult with a view toward finding a means of remedying or preventing actual or threatened market disruption, and authorizes the Parties to take action, including the imposition of import restrictions, to achieve this goal.

On July 12, 1999, the United States Department of Commerce and the Ministry of Trade of the Russian Federation, (now the Ministry of Economic Development and Trade of the Russian Federation), concluded the Agreement Concerning Trade in Certain Steel Products From the Russian Federation (“the 1999 Agreement”) establishing import limitations on certain Russian steel products. On July 22, 1999, the President proclaimed the imposition of restraints on imports of certain steel products from the Russian Federation consistent with the 1999 Agreement. See Proclamation 7210 of July 22, 1999, 64 FR 40723 (July 27, 1999). On November 19, 2002, the Parties signed an Addendum to the Agreement Concerning Trade in Certain Steel Products From the Russian Federation (“First Addendum”). On February 24, 2003, the Parties agreed, ad referendum, to a proposed Second Addendum to the Agreement Concerning Trade in Certain Steel Products From the Russian Federation (“Second Addendum”).

The United States is considering the acceptance of the Second Addendum and consequent modification to Proclamation 7210 in order to modify the terms of the 1999 Agreement with regards to pig iron, certain steel billets, and certain other semifinished steel products from the Russian Federation. This Addendum would modify the export limits, export limit periods and reporting periods of the 1999 Agreement for these three products. All other provisions of the 1999 Agreement and the First Addendum not affected by this Second Addendum remain in effect and unchanged.

Section 125(c) of the Trade Act (19 U.S.C. 2135(c)) provides that whenever the United States, acting in pursuance of any of its rights or obligations under any trade agreement entered into pursuant to the Trade Act, modifies any obligation with respect to the trade of any foreign country or instrumentality, the President is authorized to proclaim increased duties or other import restrictions, to the extent, at such times, and for such periods as he deems necessary or appropriate, in order to exercise the rights or fulfill the obligations of the United States. Section 125(f) of the Trade Act (19 U.S.C. 2135(f)) requires the President to provide the opportunity for interested parties to present views at a public hearing prior to taking action pursuant to section 125(b), (c), or (d) of the Trade Act (19 U.S.C. 2135 (b), (c), or (d)). Such an opportunity is being provided by the holding of such a hearing on March 26, 2003, at 10:00 a.m., at the United States Department of Commerce. The Department has published a copy of the Second Addendum on its Import Administration Web site (http://www.ia.ita.doc.gov/newitems.htm).

Notice of Public Hearing

Pursuant to section 125(f) of the Trade Act of 1974 (19 U.S.C. 2135(f)), the International Trade Administration of the Department of Commerce, has scheduled a public hearing beginning at 10 a.m., on March 26, 2003, at Room (TBA) of the Herbert C. Hoover Building, U.S. Department of Commerce, 14th and Constitution Ave., NW., Washington, DC.

Requests to Present Oral Testimony: Parties wishing to testify orally at the hearing must provide written notification of their intention not later than 5 p.m., March 19, 2003, to Faryar Shirzad, Assistant Secretary for Import Administration: Public Hearing on the Second Addendum to the Agreement Concerning Trade in Certain Steel Products from the Russian Federation, Room 3099B, Herbert C. Hoover Building, U.S. Department of Commerce, 14th and Constitution Ave., NW., Washington, DC. The notification should include: (1) The name of the person presenting the testimony, their address and telephone number; (2) the organization or company they are representing, if appropriate; (3) a list of issues to be addressed; and (4), if applicable, any request for an extension of the time limitation for the oral presentation. This notification may be submitted via facsimile to Jean Kemp or Ed Yang at (202) 482-0865. Those parties presenting oral testimony must also submit a written brief, in 20 copies, not later than 10 a.m., March 24, 2003, to the above mentioned address. Hearing presentations should be limited to no more than five minutes to allow for possible questions from the Chairman and the panel. Additional time for oral presentations may be granted as time and the number of participants permit. Any business proprietary material must be clearly marked as such on the cover page (or letter) and succeeding pages. Such submissions must be accompanied by a public summary thereof.

Written Briefs

Those persons not wishing to participate in the hearing may submit written comments, in 20 typed copies, not later than 10 a.m., March 24, 2003, to Faryar Shirzad, Assistant Secretary for Import Administration: Re: Second Addendum to the Agreement Concerning Trade in Certain Steel Products from the Russian Federation, Room 3099B, Herbert C. Hoover Building, U.S. Department of Commerce, 14th and Constitution Ave., NW., Washington, DC. Comments should state clearly the position taken and describe with specificity, the evidence supporting that position. Any business proprietary material must be clearly marked as such on the cover page (or letter) and succeeding pages. Such submissions must be accompanied by a public summary thereof. Public submissions will be available for public inspection at the Import Administration Central Records Unit. An appointment to review the file may be made by contacting Thomas Hartley at (202) 482-1248.

Dated: March 4, 2003.
Faryar Shirzad,
Assistant Secretary for Import Administration.

[FR Doc. 03-5775 Filed 3-10-03; 8:45 am]

BILLING CODE 3510-DS-P